DEPARTMENT OF TRANSPORTATION

Surface Transportation Board

[STB Finance Docket No. 34249]

Union Pacific Railroad Company—Trackage Rights Exemption—The Burlington Northern and Santa Fe Railway Company

The Burlington Northern and Santa Fe Railway Company (BNSF) has agreed to grant temporary overhead trackage rights to Union Pacific Railroad Company (UP)¹ between BNSF milepost 6.1 near Fort Worth, TX, and BNSF milepost 218.1 near Temple, TX, a distance of approximately 129.2 miles.²

¹ On August 30, 2002, UP concurrently filed a petition for exemption in STB Finance Docket No. 34249 (Sub-No. 1), Union Pacific Railroad Company-Trackage Rights Exemption—The Burlington Northern and Santa Fe Railway Company, wherein UP requests that the Board permit the proposed temporary overhead trackage rights arrangement described in this notice to expire on October 24, 2002. That petition will be addressed by the Board in a separate decision.

² The milepost numbers do not reflect the actual length of the BNSF line segment because of intermediate milepost changes.

The transaction is scheduled to be consummated on September 9, 2002. The temporary trackage rights will allow UP to facilitate maintenance work on its lines.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34249, must be filed with the Surface Transportation Board, 1925 K Street N.W., Washington, DC 20423-0001. In addition, one copy of each pleading must be served on Robert T. Opal, General Commerce Counsel, 1416 Dodge Street, Room 830, Omaha, NE 68179.

Board decisions and notices are available on our Web site at “www.stb.dot.gov.”

Decided: September 6, 2002.
By the Board, David M. Konschnik, Director, Office of Proceedings.
Vernon A. Williams,
Secretary.

[FR Doc. 02-23377 Filed 9-17-02; 8:45 am]

BILLING CODE 4915-00-P